DEPARTMENT OF COMMERCE

International Trade Administration

[A-580-825]

Oil Country Tubular Goods from Korea: Notice of Extension of Time Limit for Preliminary Results of Antidumping Duty Administrative Review

AGENCY: Import Administration, International Trade Administration, Department of Commerce.

EFFECTIVE DATE: April 25, 2006.

FOR FURTHER INFORMATION CONTACT: Nicholas Czajkowski or Dara Iserson, AD/CVD Operations, Office 6, Import Administration, International Trade Administration, U.S. Department of Commerce, 14th Street and Constitution Avenue, NW., Washington DC 20230; telephone: (202) 482-1395 or (202) 482-4052, respectively.

SUPPLEMENTARY INFORMATION:

Background

On August 31, 2005, the Department of Commerce (the Department) received timely requests for an administrative review of the antidumping duty order on oil country tubular goods (OCTG) from Korea, with respect to SeAH Steel Corporation and Husteel Co., Ltd. On September 28, 2005, the Department published a notice of initiation of this administrative review for the period of August 1, 2004, through July 31, 2005. See Notice of Initiation of Antidumping and Countervailing Duty Administrative Reviews and Requests for Revocation in Part, 70 FR 56631 (September 28, 2005).

Extension of Time Limits for Preliminary Results

Pursuant to section 751(a)(3)(A) of the Tariff Act of 1930, as amended (the Act), the Department shall issue preliminary results in an administrative review of an antidumping duty order within 245 days after the last day of the anniversary month of the date of publication of the order. The Act further provides, however, that the Department may extend that 245-day period to 365 days if it is not practicable to complete the review within the foregoing time period.

The Department finds that it is not practicable to complete the review by the current deadline of May 3, 2006, due to the complexity involved in calculating normal value, specifically the Department's calculations for constructed value (CV). We have requested additional information regarding selling expenses and profit for the computation of CV and we will need additional time to analyze the response and issue any supplemental questionnaires on this matter, if necessary. Therefore, in accordance with section 751(a)(3)(A) of the Act, the Department is extending the time limit for the preliminary results until no later than August 24, 2006, which is 358 days after the last day of the anniversary month of the date of publication of the order. The final results continue to be due 120 days after the publication of the preliminary results, in accordance with section 351.213(h) of the Department's regulations.

This notice is published in accordance to sections 751(a)(1) and 777(i)(1) of the Act.

Dated: April 18, 2006.
Stephen J. Claeys,
Deputy Assistant Secretary for Import Administration.

[FR Doc. E6-6197 Filed 4-24-06; 8:45 am]

BILLING CODE 3510-DS-S